DEPARTMENT OF COMMERCE

Submission for OMB Review; Comment Request

DOC has submitted to the Office of Management and Budget (OMB) for clearance the following proposal for collection of information under the provisions of the Paperwork Reduction Act of 1995, Public Law 104-13 (44 U.S.C. 3506(c)(2)(A)).

Bureau: International Trade Administration.

Title: Request for Duty-Free Entry of Scientific Instruments or Apparatus.

Agency Form Number: ITA-338P.

OMB Number: 0625-0037.

Type of Request: Extension-Regular Submission.

Burden: 100 hours.

Number of Respondents: 50.

Avg. Hours Per Response: 2 hours.

Needs and Uses: The Departments of Commerce and Treasury are required to determine whether nonprofit institutions established for scientific or educational purposes are entitled to duty-free entry under the Florence Agreement of certain scientific instruments they import. Form ITA-338P enables (1) Treasury to determine whether the statutory eligibility requirements for the institution and the instrument are fulfilled, and (2) Commerce to make a comparison and finding as to the scientific equivalency of comparable instruments being manufactured in the United States. Without the collection of the information, Treasury and Commerce would not have the necessary information to carry out the responsibilities of determining eligibility for duty-free entry assigned by law.

Affected Public: State or local governments; Federal agencies; nonprofit institutions.

Frequency: On Occasion.

Respondent's Obligation: Required to obtain or retain a benefit, voluntary.

OMB Desk Officer: David Rostker, (202) 395-7340.

Copies of the above information collection proposal can be obtained by calling or writing Madeleine Clayton, Departmental Paperwork Clearance Officer, (202) 482-3129, Department of Commerce, Room 6086, 14th and Constitution, NW., Washington, DC 20230; or via the Internet at Mclayton@doc.gov.

Written comments and recommendations for the proposed information collection should be sent to David Rostker, OMB Desk Officer, Room 10202, New Executive Office Building, Washington, DC 20503 within 30 days of the publication of this notice in the Federal Register.

Dated: April 6, 2001.
Madeleine Clayton,
Departmental Paperwork Clearance Officer, Office of the Chief Information Officer.

[FR Doc. 01-8885 Filed 4-10-01; 8:45 am]

BILLING CODE 3510-DS-P